DEPARTMENT OF HOMELAND SECURITY

Coast Guard

33 CFR Part 165

[Docket No. USCG-2021-0452]

Seafair Air Show Performance, Seattle, WA

AGENCY: Coast Guard, DHS.

ACTION: Notification of non-enforcement of regulation.

SUMMARY: The Coast Guard will not enforce the safety zone for the Seafair Air Show Performance in Lake Washington, Seattle, WA in July and August 2021. The Captain of the Port Sector Puget Sound has determined enforcement of this regulation is not necessary because this event is cancelled.

DATES: The Coast Guard does not plan to enforce regulations in 33 CFR 165.1319 in July and August 2021.

FOR FURTHER INFORMATION CONTACT: If you have questions about this notification of non-enforcement, call or email Lieutenant Peter McAndrew, Sector Puget Sound Waterways Management Division, U.S. Coast Guard; telephone 206-217-6051, email SectorPugetSoundWWM@uscg.mil.

SUPPLEMENTARY INFORMATION: The Coast Guard normally enforces the safety zone in 33 CFR 165.1319 for the Seattle Seafair Air Show Performance held in Lake Washington, Seattle, WA. This event is typically held annually during last week of July and the first 2 weeks of August. This year, the event organizers cancelled Seafair. Therefore, the Coast Guard does not plan to enforce the safety zone in 33 CFR 165.1319 in July or August 2021.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 21, 2021.
P.M. Hilbert,
Captain, U.S. Coast Guard, Captain of the Port Sector Puget Sound.

[FR Doc. 2021-13721 Filed 6-25-21; 8:45 am]

BILLING CODE 9110-04-P